DEPARTMENT OF TRANSPORTATION

Coast Guard

33 CFR Part 117

[CGD07-01-019]

Drawbridge Operation Regulations; Crescent Beach Bridge (SR 206), Crescent Beach, FL

AGENCY: Coast Guard, DOT.

ACTION: Notice of temporary deviation from regulations.

SUMMARY: The Commander, Seventh Coast Guard District, has approved a temporary deviation from the regulations governing the operation of the Crescent Beach Bridge across the Intracoastal Waterway, mile 788.6, Crescent Beach, St. Johns County, Florida. This deviation allows the drawbridge owner or operator to only open one leaf of the drawbridge, from 8 a.m. until 5 p.m., with double leaf openings available if 4 hours advance notice is provided to the bridge tender, from March 19, 2001 to May 18, 2001. This temporary deviation is required to allow the bridge owner to safely complete maintenance on the bridge.

DATES: This deviation is effective from March 19, 2001 to May 18, 2001.

FOR FURTHER INFORMATION CONTACT: Mr. Barry Dragon, Chief, Operations Section, Seventh Coast Guard District, Bridge Section at (305) 415-6743.

SUPPLEMENTARY INFORMATION: The Crescent Beach Bridge across the Atlantic Intracoastal Waterway at Crescent Beach, St. Johns County, FL is a double leaf bridge with a vertical clearance of 25.0 feet above mean high water (MHW) measured at the fenders in the closed position with a horizontal clearance of 90 feet. On February 14, 2001, Coastal Marine Construction Inc. representing the drawbridge owner, requested a deviation from the current operating regulations in 33 CFR 117.5. Those regulations require the draw to fully open on signal. This temporary deviation was requested to allow necessary maintenance to the drawbridge in a critical time sensitive manner.

The District Commander has granted a temporary deviation from the operating requirements listed in 33 CFR 117.5 for the purpose of maintenance on the drawbridge. Under this deviation, the Crescent Beach Bridge need only open one leaf from 8 a.m. until 5 p.m. from March 19, 2001 to May 18, 2001. Double leaf openings will be available if a 4 hour advance notice is given to the bridge tender.

Dated: March 5, 2001.
Greg E. Shapley,
Chief, Bridge Administration, Seventh Coast Guard District.

[FR Doc. 01-6219 Filed 3-12-01; 8:45 am]

BILLING CODE 4910-15-P